ENVIRONMENTAL PROTECTION AGENCY

[ER-FRL-9047-1]

Environmental Impact Statements; Notice of Availability

Responsible Agency: Office of Federal Activities, General Information 202-564-5632 or https://www.epa.gov/ nepa/.

Weekly receipt of Environmental Impact Statements

Filed 09/16/2019 10 a.m. ET Through 09/23/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190231, Draft, HCIDLA, CA, Rose Hill Courts Redevelopment Project, Comment Period Ends: 11/12/2019, Contact: Shelly Lo 213-808-8879

EIS No. 20190232, Final, NMFS, FL, Coral Habitat Areas Considered for Habitat Areas of Particular Concern Designation in the Gulf of Mexico, Review Period Ends: 10/28/2019, Contact: Lauren M. Waters 727-524-5305

EIS No. 20190233, Final, BLM, CA, Desert Quartzite Solar Project Final Plan Amendment/Environmental Impact Statement/Environmental Impact Report, Review Period Ends: 10/28/2019, Contact: Brandon G. Anderson 951-697-5200

EIS No. 20190234, Final, USFS, WY, Invasive Plant Management Final Environmental Impact Statement for the Bridger-Teton National Forest, Review Period Ends: 11/12/2019, Contact: Chad Hayward 307-276-3375

EIS No. 20190235, Final, USFWS, WA, Long-Term Conservation Strategy for the Marbled Murrelet, Review Period Ends: 10/28/2019, Contact: Tim Romanski 360-753-5823

EIS No. 20190236, Final, USACE, TX, Lake Ralph Hall Regional Water Supply Reservoir Project, Review Period Ends: 10/28/2019, Contact: Chandler J. Peter 817-886-1736

Dated: September 23, 2019.
Robert Tomiak,
Director, Office of Federal Activities.

[FR Doc. 2019-20990 Filed 9-26-19; 8:45 am]

BILLING CODE 6560-50-P